DEPARTMENT OF COMMERCE

International Trade Administration

[C-570-955]

Certain Magnesia Carbon Bricks From the People's Republic of China: Postponement of Preliminary Determination in the Countervailing Duty Investigation

AGENCY: Import Administration, International Trade Administration, Department of Commerce.

FOR FURTHER INFORMATION CONTACT: Nicholas Czajkowski or Justin Neuman, AD/CVD Operations, Office 6, Import Administration, International Trade Administration, U.S. Department of Commerce, 14th Street and Constitution Avenue, NW., Washington, DC 20230; telephone: (202) 482-1395 and (202) 482-0486, respectively.

SUPPLEMENTARY INFORMATION:

Background

On August 18, 2009, the Department of Commerce (the Department) initiated the countervailing duty investigation of certain magnesia carbon bricks from the People's Republic of China. See Certain Magnesia Carbon Bricks from the People's Republic of China: Initiation of Countervailing Duty Investigation, 74 FR 42858 (August 25, 2009). Currently, the preliminary determination is due no later than October 22, 2009.

Postponement of Due Date for the Preliminary Determination

Section 703(b)(1) of the Tariff Act of 1930, as amended (the Act), requires the Department to issue the preliminary determination in a countervailing duty investigation within 65 days after the date on which the Department initiated the investigation. However, the Department may postpone making the preliminary determination until no later than 130 days after the date on which the administering authority initiated the investigation if the petitioner makes a timely request for an extension pursuant to section 703(c)(1)(A) of the Act. In the instant investigation, the petitioner made a timely request on September 25, 2009, requesting a postponement until 120 days from the initiation date. See 19 CFR 351.205(e) and the petitioner's September 25, 2009 letter requesting postponement of the preliminary determination. Therefore, pursuant to the discretion afforded the Department under 703(c)(1)(A) of the Act and because the Department does not find any compelling reason to deny the request, we are extending the due date until 120 days after the Department's initiation for the preliminary determination. Therefore, the deadline for the completion of the preliminary determination is now December 16, 2009.

This notice is issued and published pursuant to section 703(c)(2) of the Act.

Dated: October 1, 2009.
Ronald K. Lorentzen,
Acting Assistant Secretary for Import Administration.

[FR Doc. E9-24213 Filed 10-6-09; 8:45 am]

BILLING CODE 3510-DS-P